DEPARTMENT OF ENERGY

Federal Energy Regulatory Commission

[Docket No. CP01-415-000]

East Tennessee Natural Gas Company; Notice of Site Visit

January 18, 2002.

Between January 28 and 31, 2002 the staff will be conducting site visits and an overflight of the project route alternatives for the proposed Patriot Extension in Wythe, Carroll, Floyd, Patrick, and Henry Counties, Virginia, and Rockingham County, North Carolina. Representatives of East Tennessee Natural Gas Company will accompany Commission staff. Anyone interested in participating in the site visits may contact the Commission's Office of External Affairs at (201) 208-1088 for more details and must provide their own transportation.

Linwood A. Watson Jr.,
Acting Secretary.

[FR Doc. 02-1824 Filed 1-24-02; 8:45 am]

BILLING CODE 6717-01-P